ENVIRONMENTAL PROTECTION AGENCY

40 CFR Part 52

[EPA-R10-OAR-2018-0214, FRL-9982-59—Region 10]

Air Plan Approval; ID, Incorporations by Reference Updates and Rule Revisions

AGENCY: Environmental Protection Agency (EPA).

ACTION: Final rule.

SUMMARY: EPA is taking final action to approve revisions to Idaho's State Implementation Plan (SIP) submitted by the Idaho Department of Environmental Quality (IDEQ) on March 20, 2018 and April 12, 2018. The submitted revisions update incorporation by reference of Federal regulations in the Idaho's rules. The revisions also remove an interim regulation that expired in 2003.

DATES: This final rule is effective September 19, 2018.

ADDRESSES: EPA has established a docket for this action under Docket ID No. EPA-R10-OAR-2018-0214, at http://www.regulations.gov. All documents in the docket are listed on the https://www.regulations.gov website. Although listed in the index, some information is not publicly available, e.g., CBI or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Randall Ruddick at (206) 553-1999, or ruddick.randall@epa.gov.

SUPPLEMENTARY INFORMATION: Throughout this document, wherever “we,” “us,” or “our” is used, it is intended to refer to EPA.

Table of Contents

I. Background

II. Final Action

III. Incorporation by Reference

IV. Statutory and Executive Orders Review

I. Background

On March 20, 2018, the Idaho Department of Environmental Quality (IDEQ) submitted revisions to the SIP provisions that incorporate by reference (IBR) various portions of Federal regulations codified in the Code of Federal Regulations (CFR) into the Rules for the Control of Air Pollution in Idaho (IDAPA 58.01.01). Additionally, on April 12, 2018, Idaho submitted a separate SIP revision to remove an expired interim transportation conformity provision.

On June 29, 2018, EPA proposed to approve Idaho's March 20, 2018, and April 12, 2018, SIP submissions. Please see the proposed approval for further explanation (83 FR 30626). The public comment period for our proposed action ended July 30, 2018. We received three electronic comments submitted through https://www.regulations.gov. We reviewed the comments and have determined that they are not clearly related to the subject of this action and thus are not adverse to this action. Therefore, we are finalizing our action as proposed.

II. Final Action

EPA is approving, and incorporating by reference where appropriate, in Idaho's SIP, all revisions to IDAPA 58.01.01.107 Incorporations by Reference (state effective March 28, 2018), except .03.f through .p, as requested by Idaho on March 20, 2018. EPA is also approving, as requested by Idaho on April 12, 2018, removal of IDAPA 58.01.01.582 Interim Conformity Provisions for Northern Ada County Former Nonattainment Area for PM 10 from the Idaho SIP. We have determined that the submitted SIP revisions are consistent with section 110 and parts C and part D of Title I of the CAA.

III. Incorporation by Reference

In this rule, EPA is approving regulatory text that includes incorporation by reference. In accordance with requirements of 1 CFR 51.5, EPA is incorporating by reference the provisions described above in Section II. Final Action and set forth below, as amendments to 40 CFR part 52.

Also in this rule, EPA is removing regulatory text that includes incorporation by reference. In accordance with requirements of 1 CFR 51.5, EPA is removing the incorporation by reference of IDAPA 58.01.01.582 as described in Section II. Final Action and set forth below, as amendments to 40 CFR part 52.

EPA has made, and will continue to make, these documents generally available electronically through www.regulations.gov and at the EPA Region 10 office (please contact the person identified in the FOR FURTHER INFORMATION CONTACT section of this preamble for more information).

IV. Statutory and Executive Orders Review

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• is not an Executive Order 13771 (82 FR 9339, February 2, 2017) regulatory action because SIP approvals are exempted under Executive Order 12866;

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because it does not involve technical standards; and

• does not provide the EPA with the discretionary authority to address, as appropriate, disproportionate human health or environmental effects, using practicable and legally permissible methods, under Executive Order 12898 (59 FR 7629, February 16, 1994).

The SIP does not apply on any Indian reservation land or in any other area where the EPA or an Indian tribe has demonstrated that a tribe has jurisdiction. In those areas of Indian country, this action does not have tribal implications and will not impose substantial direct costs on tribal governments or preempt tribal law as specified by Executive Order 13175 (65 FR 67249, November 9, 2000).

List of Subjects in 40 CFR Part 52

Environmental protection, Air pollution control, Incorporation by reference, Intergovernmental relations, Ozone, Particulate matter, Reporting and recordkeeping requirements, Sulfur oxides, Volatile organic compounds.

Authority: 42 U.S.C. 7401 et seq.

Dated: August 7, 2018.
Chris Hladick,
Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart N—Idaho

2. In § 52.670, the table in paragraph (c) is amended by:

a. Revising entry 107; and

b. Removing entry 582.

The revision reads as follows:

§ 52.670 Identification of plan.

* * * * *

(c) * * *

EPA-Approved Idaho Regulations and Statutes
State citation | Title/subject | State effective date | EPA approval date | Explanations
Idaho Administrative Procedures Act (IDAPA) 58.01.01—Rules for the Control of Air Pollution in Idaho
* * * * * * *
107 | Incorporation by Reference | 3/28/2018, 3/25/2016, 3/20/2014, 3/30/2007, 7/1/1997, 5/1/1994 | 8/20/2018 [Insert Federal Register citation] | Except Section 107.03.f through 107.03.p.
* * * * * * *

* * * * *

[FR Doc. 2018-17825 Filed 8-17-18; 8:45 am]

BILLING CODE 6560-50-P